DEPARTMENT OF THE INTERIOR

Bureau of Land Management

[MT-924-1430-FQ; SDM 94312]

Public Land Order No. 7705; Withdrawal of National Forest System Land To Preserve Cave Resources Adjacent to Jewel Cave National Monument; South Dakota; Correction

AGENCY: Bureau of Land Management, Interior.

ACTION: Correction.

SUMMARY: In Public Land Order No. 7705, 73 FR 21151-21152, published April 18, 2008, as FR Doc. E8-8410, make the following correction:

On page 21151, column 1, in T. 4 S., R. 3 E., Sec. 6, lots 3 and 4 should read “excluding that portion withdrawn by PLO 2965”.

Dated: April 22, 2008.
Cindy Staszak,
Chief, Branch of Land Resources.

[FR Doc. E8-9318 Filed 4-28-08; 8:45 am]

BILLING CODE 4310-$$-P